ENVIRONMENTAL PROTECTION AGENCY

40 CFR Part 180

[EPA-HQ-OPP-2023-0246; FRL-12678-01-OCSPP]

Tiafenacil; Pesticide Tolerances

AGENCY: Environmental Protection Agency (EPA).

ACTION: Final rule.

SUMMARY: This regulation establishes tolerances for residues of tiafenacil in or on multiple commodities. ISK Biosciences Corporation requested these tolerances under the Federal Food, Drug, and Cosmetic Act (FFDCA).

DATES: This regulation is effective April 7, 2025. Objections and requests for hearings must be received on or before June 6, 2025 and must be filed in accordance with the instructions provided in 40 CFR part 178 (see also Unit I.C. of the SUPPLEMENTARY INFORMATION).

ADDRESSES: The docket for this action, identified by docket identification (ID) number EPA-HQ-OPP-2023-0246, is available online at https://www.regulations.gov. Additional information about dockets generally, along with instructions for visiting the docket in-person, is available at https://www.epa.gov/dockets.

FOR FURTHER INFORMATION CONTACT: Charles Smith, Director, Registration Division (7505T), Office of Pesticide Programs, Environmental Protection Agency, 1200 Pennsylvania Ave. NW, Washington, DC 20460-0001; main telephone number: (202) 566-1030; email address: RDFRNotices@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this proposed action to a particular entity, consult the person listed under FOR FURTHER INFORMATION CONTACT.

B. What is EPA's authority for taking this action?

EPA is issuing this rulemaking under section 408 of the Federal Food, Drug, and Cosmetic Act (FFDCA), 21 U.S.C. 346a. FFDCA section 408(b)(2)(A)(i) allows EPA to establish a tolerance (the legal limit for a pesticide chemical residue in or on a food) only if EPA determines that the tolerance is “safe.” FFDCA section 408(b)(2)(A)(ii) of defines “safe” to mean that “there is a reasonable certainty that no harm will result from aggregate exposure to the pesticide chemical residue, including all anticipated dietary exposures and all other exposures for which there is reliable information.” This includes exposure through drinking water and in residential settings but does not include occupational exposure. Pursuant to FFDCA section 408(c)(2)(B), in establishing or maintaining in effect a tolerance. EPA must take into account the factors set forth in FFDCA section 408(b)(2)(C), which requires EPA to give special consideration to exposure of infants and children to the pesticide chemical residue in establishing a tolerance and to “ensure that there is a reasonable certainty that no harm will result to infants and children from aggregate exposure to the pesticide chemical residue. . . .”Additionally, FFDCA section 408(b)(2)(D) requires that the Agency consider, among other things, “available information concerning the cumulative effects of a particular pesticide's residues” and “other substances that have a common mechanism of toxicity.”

C. How can I file an objection or hearing request?

Under FFDCA section 408(g), 21 U.S.C. 346a(g), any person may file an objection to any aspect of this regulation and may also request a hearing on those objections. If you fail to file an objection to the final rule within the time period specified in the final rule, you will have waived the right to raise any issues resolved in the final rule. You must file your objection or request a hearing on this regulation in accordance with the instructions provided in 40 CFR part 178. To ensure proper receipt by EPA, you must identify docket ID number EPA-HQ-OPP-2023-0246 in the subject line on the first page of your submission. All objections and requests for a hearing must be in writing and must be received by the Hearing Clerk on or before June 6, 2025.

EPA's Office of Administrative Law Judges (OALJ), in which the Hearing Clerk is housed, urges parties to file and serve documents by electronic means only, notwithstanding any other particular requirements set forth in other procedural rules governing those proceedings. See “Revised Order Urging Electronic Filing and Service,” dated June 22, 2023, which can be found at https://www.epa.gov/system/files/documents/2023-06/2023-06-22%20-%20revised%20order%20urging%20electronic%20filing%20and%20service.pdf. Although EPA's regulations require submission via U.S. Mail or hand delivery, EPA intends to treat submissions filed via electronic means as properly filed submissions; therefore, EPA believes the preference for submission via electronic means will not be prejudicial. When submitting documents to the OALJ electronically, a person should utilize the OALJ e-filing system at https://yosemite.epa.gov/oa/eab/eab-alj_upload.nsf.

In addition to filing an objection or hearing request with the Hearing Clerk as described in 40 CFR part 178, please submit a copy of the filing (excluding any Confidential Business Information (CBI)) for inclusion in the public docket at https://www.regulations.gov. Follow the online instructions for submitting comments. Do not submit electronically any information you consider to be CBI or other information whose disclosure is restricted by statue. If you wish to include CBI in your request, please follow the applicable instructions at https://www.epa.gov/dockets/commenting-epa-dockets#rules and clearly mark the information that you claim to be CBI. Information not marked confidential pursuant to 40 CFR part 2 may be disclosed publicly by EPA without prior notice.

II. Petition for Exemption

In the Federal Register of October 26, 2023 (88 FR 73571) (FRL-10579-09-OCSPP), EPA issued a document pursuant to FFDCA section 408(d)(3), 21 U.S.C. 346a(d)(3), announcing the filing of a pesticide petition (PP 2F9040) by ISK Biosciences Corporation, 7470 Auburn Road, Suite A, Concord, Ohio 44077. The petition requested that 40 CFR 180.713(a)(1) be amended by establishing tolerances for residues of the herbicide tiafenacil, including its metabolites and degradates, in or on Pulses, dried shelled bean, except soybean, subgroup 6-22E at 0.03 parts per million (ppm); Pulses, dried shelled pea, subgroup 6-22F at 0.05 ppm; Citrus fruit, group 10-10 at 0.01 ppm; Pome fruit, group 11-10 at 0.01 ppm; Stone fruit, group 12-12 at 0.01 ppm; Tree nut, group 14-12 at 0.01 ppm; Barley subgroup 15-22B at 0.015 ppm; Sweet corn subgroup 15-22D at 0.01 ppm; Grain sorghum and millet subgroup 15-22E at 0.01 ppm; Rapeseed, subgroup 20A at 0.015 ppm; and Peanut at 0.01 ppm. The petition also requested that 40 CFR 180.713(a)(2) be amended by establishing tolerances for residues of the herbicide tiafenacil, including its metabolites and degradates, in or on Almond hulls at 0.03 ppm; Barley, hay at 0.07 ppm; Barley, straw at 0.04 ppm; Corn, sweet, forage at 0.01 ppm; Corn, sweet, stover at 0.015 ppm; Pea, straw at 7 ppm; Sorghum, forage at 0.01 ppm; and Sorghum, stover at 0.015 ppm. That document referenced a summary of the petition prepared by ISK Biosciences Corporation, the petitioner, which is available in the docket (EPA-HQ-OPP-2023-0246), https://www.regulations.gov. A comment was received in response to the notice of filing. EPA's response to this comment is discussed in Unit IV.C.

Based upon review of the data supporting the petition and in accordance with its authority under FFDCA section 408(d)(4)(A)(i), EPA has revised tolerance values and definitions for some commodities, and established tolerances on additional livestock feed commodities. The reasons for these changes are explained in Unit IV.D.

III. Aggregate Risk Assessment and Determination of Safety

Section 408(b)(2)(A)(i) of FFDCA allows EPA to establish a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings but does not include occupational exposure. Section 408(b)(2)(C) of FFDCA requires EPA to give special consideration to exposure of infants and children to the pesticide chemical residue in establishing a tolerance and to “ensure that there is a reasonable certainty that no harm will result to infants and children from aggregate exposure to the pesticide chemical residue. . . .”

Consistent with FFDCA section 408(b)(2)(D), and the factors specified in FFDCA section 408(b)(2)(D), EPA has reviewed the available scientific data and other relevant information in support of this action. EPA has sufficient data to assess the hazards of and to make a determination on aggregate exposure for tiafenacil including exposure resulting from the tolerances established by this action. EPA's assessment of exposures and risks associated with tiafenacil follows.

In an effort to streamline its publications in the Federal Register, EPA is not reprinting sections that repeat what has been previously published for tolerance rulemakings for the same pesticide chemical. Where scientific information concerning a particular chemical remains unchanged, the content of those sections would not vary between tolerance rulemakings, and EPA considers referral back to those sections as sufficient to provide an explanation of the information EPA considered in making its safety determination for the new rulemaking.

EPA has previously published a tolerance rulemaking in 2020 for tiafenacil in which EPA concluded, based on the available information, that there is a reasonable certainty that no harm would result from aggregate exposure to tiafenacil and established tolerances for residues of that chemical. EPA is incorporating previously published sections from that rulemaking as described further in this rulemaking, as they remain unchanged.

Toxicological profile. For a discussion of the toxicological profile for tiafenacil, see Unit III.A. of the tiafenacil tolerance rulemaking published in the Federal Register of September 8, 2020 (85 FR 55380) (FRL-10013-02).

Toxicological points of departure/Levels of concern. A summary of the toxicological points of departure and levels of concern for tiafenacil used for human health risk assessment is discussed in Unit III.B of the September 8, 2020, rulemaking.

Exposure assessment. Much of the exposure assessment remains unchanged from the September 2020 rulemaking, although updates have occurred to accommodate the exposures from the petitioned-for tolerances. These updates are discussed in this section; for a description of the rest of the EPA approach to and assumptions for the exposure assessment, see Unit III.C of the September 8, 2020, rulemaking.

EPA's chronic dietary exposure assessment has been updated to include the additional exposure from the petitioned-for tolerances for tiafenacil, and incorporated tolerance-level residues and 100% crop treated (CT) assumptions. This assessment was revised to reflect the updated Dietary Exposure Evaluation Model software with the Food Commodity Intake Database (DEEM-FCID), Version 4.02, which incorporates 2005-2010 consumption data from the United States Department of Agriculture (USDA) National Health and Nutrition Examination Survey, What We Eat in America (NHANES/WWEIA). The chronic estimated drinking water concentration (EDWC) of 66 parts per billion (ppb) is unchanged from the September 8, 2020, rulemaking and were directly incorporated into the dietary assessment. An acute dietary exposure assessment was not performed since there were no adverse effects identified in the toxicological studies for tiafenacil. A cancer dietary assessment was not conducted as tiafenacil is classified as “not likely” to be a human carcinogen. Tiafenacil is not registered for any specific use patterns that would result in residential exposure. Therefore, a quantitative residential exposure assessment was not conducted.

Safety factor for infants and children. EPA continues to conclude that there are reliable data to support the reduction of the Food Quality Protection Act (FQPA) safety factor from 10X to 1X. See Unit III.D of the September 8, 2020, rulemaking for a discussion of the Agency's rationale for that determination.

Aggregate risks and Determination of safety. EPA determines whether acute and chronic dietary pesticide exposures are safe by comparing dietary exposure estimates to the acute population-adjusted dose (aPAD) and the chronic population-adjusted dose (cPAD). Short-, intermediate-, and chronic-term aggregate risks are evaluated by comparing the estimated total food, water, and residential exposure to the appropriate points of departure (PODs) to ensure that an adequate margin of exposure (MOE) exists.

An acute aggregate risk assessment takes into account acute exposure estimates from dietary consumption of food and drinking water. No adverse effect resulting from a single oral exposure was identified and no acute dietary endpoint was selected. Therefore, tiafenacil is not expected to pose an acute risk. Chronic dietary (food and drinking water) risks are below the Agency's level of concern of 100% of the cPAD; they are 51% of the cPAD for all infants less than 1 year old, the population group receiving the greatest exposure. There is no short- or intermediate-term residential exposure expected since there are no proposed or previously registered residential uses of tiafenacil. Therefore, the chronic aggregate risks consist only of the dietary risks from food and water only, and as stated above, are below the Agency's level of concern. Based on the lack of evidence of carcinogenicity in two adequate rodent carcinogenicity studies, tiafenacil is not expected to pose a cancer risk to humans.

Therefore, based on the risk assessments and information described above, EPA concludes there is a reasonable certainty that no harm will result to the general population, or to infants and children, from aggregate exposure to tiafenacil residues, including its metabolites and degradates. More detailed information about the Agency's analysis can be found at https://www.regulations.gov in the document titled “Tiafenacil. Human Health Risk Assessment for the New Proposed Uses on Barley (Crop subgroup 15-22B), Citrus (Crop Group 10-10), Sweet corn subgroup 15-22, Dry shelled beans except soybean (Crop subgroup 6-22E), Dry shelled peas (Crop subgroup 6-22F), Grain sorghum (Crop Subgroup 15-22E), Pome fruit (Crop group 11-10), Rapeseed (Oilseed subgroup 20A), Stone fruit (Crop group 12-12), Peanut, and Tree nuts (Crop Group 14-12)” in docket ID number EPA-HQ-OPP-2023-0246.

IV. Other Considerations

A. Analytical Enforcement Methodology

Adequate enforcement methodologies (high-performance liquid chromatography method with tandem mass spectrometry detection (LC/MS/MS, Method No. GPL-MTH-113) and QuEChERS (AOAC Official Method 2007.1)) are available to enforce the tolerance expression for determination of residues of tiafenacil in/on crop commodities. In addition, BASF Analytical Method L0272/01 is suitable for the enforcement of tolerances for residues of tiafenacil in/on livestock commodities.

The methods may be requested from: Chief, Analytical Chemistry Branch, Environmental Science Center, 701 Mapes Rd., Ft. Meade, MD 20755-5350; telephone number: (410) 305-2905; email address: residuemethods@epa.gov.

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint United Nations Food and Agriculture Organization/World Health Organization food standards program, and it is recognized as an international food safety standards-setting organization in trade agreements to which the United States is a party. EPA may establish a tolerance that is different from a Codex MRL; however, FFDCA section 408(b)(4) requires that EPA explain the reasons for departing from the Codex level. The Codex has not established any MRL for tiafenacil.

C. Response to Comments

One comment was received in response to the Notice of Filing published in the Federal Register of October 26, 2023 (88 FR 73571) (FRL-10579-09-OCSPP). This comment was not accompanied by any substantiation nor data supporting a conclusion that the tolerances being established in this action do not meet the FFDCA safety standard. Although EPA recognizes that some individuals would oppose any use of pesticides on food, section 408 of the FFDCA authorizes EPA to set tolerances for residues of pesticide chemicals in or on food when it determines that the tolerance meets the safety standard imposed by that statute. Upon review of the available information, EPA concludes that these tolerances would be safe.

D. Revisions to Petitioned-For Tolerances

EPA is revising the following proposed commodity definitions to align with the Agency's current preferred commodity vocabulary: “Citrus fruit, group 10-10” to “Fruit, citrus, group 10-10”; “Pome fruit, group 11-10” to “Fruit, pome, group 11-10”; “Stone fruit, group 12-12” to “Fruit, stone, group 12-12”; “Tree nut, group 14-12” to “Nut, tree, group 14-12”; “Pulses, dried shelled bean, except soybean, subgroup 6-22E” to “Vegetable, legume, pulse, bean, dried shelled, except soybean, subgroup 6-22E”; “Pulses, dried shelled pea, subgroup 6-22F” to “Vegetable, legume, pulse, pea, dried shelled, subgroup 6-22F”; and “Pea, straw” to “Pea, field, forage” and “Pea, field, hay.” EPA is also revising the tolerance levels proposed for Barley subgroup 15-22B from 0.015 ppm to 0.01 ppm, for Vegetable, legume, pulse, bean, dried shelled, except soybean, subgroup 6-22E from 0.03 ppm to 0.01 ppm, for Barley, hay from 0.07 ppm to 0.03 ppm, for Barley, straw from 0.04 ppm to 0.03 ppm, for Corn, sweet, forage from 0.01 ppm to 0.03 ppm, and for Corn, sweet, stover from 0.015 ppm to 0.03 ppm based on crop field trial data demonstrating that either all or combined residues were less than the method limit of quantitation (LOQ). In addition, EPA is revising the tolerance levels proposed for Rapeseed, subgroup 20A from 0.015 ppm to 0.15 ppm, for Vegetable, legume, pulse, pea, dried shelled, subgroup 6-22F from 0.05 ppm to 0.03 ppm, for Almond, hulls from 0.03 ppm to 0.2 ppm, and for Pea, field, forage and Pea, field, hay from 7 ppm to 5 ppm based on the Organization for Economic Co-operation and Development (OECD) calculator.

Although tolerances under 40 CFR 180.713(a)(2) were proposed for grain sorghum (forage and stover), the petitioner did not propose tolerances for residues in or on the livestock feed raw agricultural commodities (RACs) associated with the use of tiafenacil on the other commodities within the Grain sorghum and millet subgroup 15-22E (fonio, Job's tears, millet, and teff). EPA has determined that tolerances for residues in these RACs are needed based on the tolerances requested. Therefore, EPA is establishing tolerances under 40 CFR 180.713(a)(2) on livestock feed RACs for fonio (black, forage and hay; white, forage and hay), Job's tears (forage and hay), millet (barnyard, forage and hay; finger, forage and hay; foxtail, forage and hay; little, forage, hay and straw; pearl, forage, hay and straw; proso, forage, hay and straw), and teff, straw.

V. Conclusion

Therefore, tolerances are established for residues of tiafenacil, including its metabolites and degradates, under 40 CFR 180.713(a)(1) in or on Barley subgroup 15-22B at 0.01 ppm; Fruit, citrus, group 10-10 at 0.01 ppm; Fruit, pome, group 11-10 at 0.01 ppm; Fruit, stone, group 12-12 at 0.01 ppm; Grain sorghum and millet subgroup 15-22E at 0.01 ppm; Nut, tree, group 14-12 at 0.01 ppm; Peanut at 0.01 ppm; Rapeseed, subgroup 20A at 0.15 ppm; Sweet corn subgroup 15-22D at 0.01 ppm; Vegetable, legume, pulse, bean, dried shelled, except soybean, subgroup 6-22E at 0.01 ppm; and Vegetable, legume, pulse, pea, dried shelled, subgroup 6-22F at 0.03 ppm.

In addition, tolerances are established for residues of tiafenacil, including its metabolites and degradates, under 40 CFR 180.713(a)(2) in or on Almond, hulls at 0.2 ppm; Barley, hay at 0.03 ppm; Barley, straw at 0.03 ppm; Corn, sweet, forage at 0.03 ppm; Corn, sweet, stover at 0.03 ppm; Fonio, black, forage at 0.05 ppm; Fonio, black, hay at 0.08 ppm; Fonio, white, forage at 0.05 ppm; Fonio, white, hay at 0.08 ppm; Job's tears, forage at 0.05 ppm; Job's tears, hay at 0.08 ppm; Millet, barnyard, forage at 0.05 ppm; Millet, barnyard, hay at 0.08 ppm; Millet, finger, forage at 0.05 ppm; Millet, finger, hay at 0.08 ppm; Millet, foxtail, forage at 0.05 ppm; Millet, foxtail, hay at 0.08 ppm; Millet, little, forage at 0.05 ppm; Millet, little, hay at 0.08 ppm; Millet, little, straw at 0.07 ppm; Millet, pearl, forage at 0.05 ppm; Millet, pearl, hay at 0.08 ppm; Millet, pearl, straw at 0.07 ppm; Millet, proso, forage at 0.05 ppm; Millet, proso, hay at 0.08 ppm; Millet, proso, straw at 0.07 ppm; Pea, field, forage at 5 ppm; Pea, field, hay at 5 ppm; Sorghum, grain, forage at 0.05 ppm; Sorghum, grain, stover at 0.05 ppm; and Teff, straw at 0.07 ppm.

VI. Statutory and Executive Order Reviews

Additional information about these statutes and Executive Orders can be found at https://www.epa.gov/regulations/and-executive-orders.

A. Executive Order 12866: Regulatory Planning and Review

This action is exempt from review under Executive Order 12866 (58 FR 51735, October 4, 1993), because it establishes or modifies a pesticide tolerance or a tolerance exemption under FFDCA section 408.

B. Paperwork Reduction Act (PRA)

This action does not impose an information collection burden under the PRA 44 U.S.C. 3501 et seq., because it does not contain any information collection activities.

C. Regulatory Flexibility Act (RFA)

I certify that this action will not have a significant economic impact on a substantial number of small entities under the RFA, 5 U.S.C. 601 et seq. In making this determination, EPA concludes that the impact of concern for this action is any significant adverse economic impact on small entities and that the Agency is certifying that this action will not have a significant economic impact on a substantial number of small entities because the action has no net burden on small entities subject to this rulemaking. This determination takes into account several EPA analyses of potential small entity impacts for tolerance actions.

D. Unfunded Mandates Reform Act (UMRA)

This action does not contain an unfunded mandate of $100 million or more (in 1995 dollars and adjusted annually for inflation) as described in UMRA, 2 U.S.C. 1531-1538, and does not significantly or uniquely affect small governments. The action imposes no enforceable duty on any state, local or tribal governments or the private sector.

E. Executive Order 13132: Federalism

This action does not have federalism implications as specified in Executive Order 13132 (64 FR 43255, August 10, 1999), because it will not have substantial direct effects on the states, on the relationship between the national government and the states, or on the distribution of power and responsibilities among the various levels of government.

F. Executive Order 13175: Consultation and Coordination With Indian Tribal Governments

This action does not have tribal implications as specified in Executive Order 13175 (65 FR 67249, November 9, 2000), because it will not have substantial direct effects on tribal governments, on the relationship between the Federal government and the Indian tribes, or on the distribution of power and responsibilities between the Federal government and Indian tribes.

G. Executive Order 13045: Protection of Children From Environmental Health Risks and Safety Risks

This action is not subject to Executive Order 13045 (62 FR 19885, April 23, 1997) because it is not a significant regulatory action under section 3(f)(1) of Executive Order 12866 (See Unit VI.A.), and because EPA does not believe the environmental health or safety risks addressed by this action present a disproportionate risk to children. However, EPA's 2021 Policy on Children's Health applies to this action.

This rule finalizes tolerance actions under the FFDCA, which requires EPA to give special consideration to exposure of infants and children to the pesticide chemical residue in establishing a tolerance and to “ensure that there is a reasonable certainty that no harm will result to infants and children from aggregate exposure to the pesticide chemical residue . . .” (FFDCA 408(b)(2)(C)). The Agency's consideration is documented in the pesticide-specific registration review documents, located in each chemical docket at https://www.regulations.gov.

H. Executive Order 13211: Actions Concerning Regulations That Significantly Affect Energy Supply, Distribution or Use

This action is not subject to Executive Order 13211 (66 FR 28355) (May 22, 2001) because it is not a significant regulatory action under Executive Order 12866.

I. National Technology Transfer Advancement Act (NTTAA)

This action does not involve technical standards that would require Agency consideration under NTTAA section 12(d), 15 U.S.C. 272.

J. Executive Order 13211: Actions Concerning Regulations That Significantly Affect Energy Supply, Distribution or Use

This action is not subject to Executive Order 13211 (66 FR 28355) (May 22, 2001) because it is not a significant regulatory action under Executive Order 12866.

K. National Technology Transfer Advancement Act (NTTAA)

This action does not involve technical standards that would require Agency consideration under NTTAA section 12(d), 15 U.S.C. 272.

L. Congressional Review Act (CRA)

This action is subject to the CRA, 5 U.S.C. 801 et seq., and EPA will submit a rule report to each House of the Congress and to the Comptroller General of the United States. This action does not meet the criteria set forth in 5 U.S.C. 804(2).

List of Subjects in 40 CFR Part 180

Environmental protection, Administrative practice and procedure, Agricultural commodities, Pesticides and pests, Reporting and recordkeeping requirements.

Dated: March 26, 2025.
Charles Smith,
Director, Registration Division, Office of Pesticide Programs.

Therefore, for the reasons stated in the preamble, EPA is amending 40 CFR chapter I as follows:

PART 180—TOLERANCES AND EXEMPTIONS FOR PESTICIDE CHEMICAL RESIDUES IN FOOD

1. The authority citation for part 180 continues to read as follows:

Authority: 21 U.S.C. 321(q), 346a and 371.

2. Amend § 180.713 by:

a. Adding in alphabetical order to table 1 to paragraph (a)(1) the entries “Barley subgroup 15-22B”; “Fruit, citrus, group 10-10”; “Fruit, pome, group 11-10”; “Fruit, stone, group 12-12”; “Grain sorghum and millet subgroup 15-22E”; “Nut, tree, group 14-12”; “Peanut”; “Rapeseed, subgroup 20A”; “Sweet corn subgroup 15-22D”; “Vegetable, legume, pulse, bean, dried shelled, except soybean, subgroup 6-22E”; and “Vegetable, legume, pulse, pea, dried shelled, subgroup 6-22F”; and

b. Adding in alphabetical order to table 2 to paragraph (a)(2) the entries “Almond, hulls”; “Barley, hay”; “Barley, straw”; “Corn, sweet, forage”; “Corn, sweet, stover”; “Fonio, black, forage”; “Fonio, black, hay”; “Fonio, white, forage”; “Fonio, white, hay”; “Job's tears, forage”; “Job's tears, hay”; “Millet, barnyard, forage”; “Millet, barnyard, hay”; “Millet, finger, forage”; “Millet, finger, hay”; “Millet, foxtail, forage”; “Millet, foxtail, hay”; “Millet, little, forage”; “Millet, little, hay”; “Millet, little, straw”; “Millet, pearl, forage”; “Millet, pearl, hay”; “Millet, pearl, straw”; “Millet, proso, forage”; “Millet, proso, hay”; “Millet, proso, straw”; “Pea, field, forage”; “Pea, field, hay”; “Sorghum, grain, forage”; “Sorghum, grain, stover”; and “Teff, straw.”

The additions read as follows:

§ 180.713 Tiafenacil; tolerances for residues.

(a) * * *

(1) * * *

Table 1 to Paragraph (a)(1)
Commodity | Parts per million
Barley subgroup 15-22B | 0.01
* * * * *
Fruit, citrus, group 10-10 | 0.01
Fruit, pome, group 11-10 | 0.01
Fruit, stone, group 12-12 | 0.01
Grain sorghum and millet subgroup 15-22E | 0.01
* * * * *
Nut, tree, group 14-12 | 0.01
Peanut | 0.01
Rapeseed subgroup 20A | 0.15
* * * * *
Sweet corn subgroup 15-22D | 0.01
Vegetable, legume, pulse, bean, dried shelled, except soybean, subgroup 6-22E | 0.01
Vegetable, legume, pulse, pea, dried shelled, subgroup 6-22F | 0.03
* * * * *

(2) * * *

Table 2 to Paragraph (a)(2)
Commodity | Parts per million
Almond, hulls | 0.2
Barley, hay | 0.03
Barley, straw | 0.03
* * * * *
Corn, sweet, forage | 0.03
Corn, sweet, stover | 0.03
Fonio, black, forage | 0.05
Fonio, black, hay | 0.08
Fonio, white, forage | 0.05
Fonio, white, hay | 0.08
Job's tears, forage | 0.05
Job's tears, hay | 0.08
Millet, barnyard, forage | 0.05
Millet, barnyard, hay | 0.08
Millet, finger, forage | 0.05
Millet, finger, hay | 0.08
Millet, foxtail, forage | 0.05
Millet, foxtail, hay | 0.08
Millet, little, forage | 0.05
Millet, little, hay | 0.08
Millet, little, straw | 0.07
Millet, pearl, forage | 0.05
Millet, pearl, hay | 0.08
Millet, pearl, straw | 0.07
Millet, proso, forage | 0.05
Millet, proso, hay | 0.08
Millet, proso, straw | 0.07
Pea, field, forage | 5
Pea, field, hay | 5
Sorghum, grain, forage | 0.05
Sorghum, grain, stover | 0.05
* * * * *
Teff, straw | 0.07
* * * * *

[FR Doc. 2025-05912 Filed 4-4-25; 8:45 am]

BILLING CODE 6560-50-P